ENVIRONMENTAL PROTECTION AGENCY

[FRL-7386-7]

Agency Information Collection Activities: Submission for OMB Review; Comment Request; RCRA Hazardous Waste Permit Application and Modification, Part A

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: RCRA Hazardous Waste Permit Application and Modification, Part A, OMB Control No. 2050-0034, expires on October 31, 2002. The ICR describes the nature of the information collection and its expected burden and cost; where appropriate, it includes the actual data collection instrument.

DATES: Comments must be submitted on or before October 30, 2002.

ADDRESSES: Send comments, referencing EPA ICR No. 0262.10 and OMB Control No. 2050-0034, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epamail.epa.gov or download off the Internet at http://www.epa.gov/icr and refer to EPA ICR No. 0262.10. For technical questions about the ICR contact David Eberly at (703) 308-8645.

SUPPLEMENTARY INFORMATION: Title: RCRA Hazardous Waste Permit Application and Modification, Part A, OMB No. 2050-0034, EPA ICR No. 0262.10, expiring October 31, 2002. This is a request for extension of a currently approved collection.

Abstract: Section 3010 of Subtitle C of RCRA, as amended, requires any person who generates or transports regulated waste or who owns or operates a facility for the treatment, storage, or disposal (TSDF) of regulated waste to notify EPA of their activities, including the location and general description of activities and the regulated wastes managed. Section 3005 of Subtitle C of RCRA requires TSDFs to obtain a permit. To obtain the permit, the TSDF must submit an application describing the facility's operation. There are two parts to the RCRA permit application—Part A and Part B. Part A defines the processes to be used for treatment, storage, and disposal of hazardous wastes: the design capacity of such processes: and the specific hazardous wastes to be handled at the facility. Part B requires detailed site specific information such as geologic, hydrologic, and engineering data.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 9, 2002 (67 FR 31300). No comments were received.

Burden Statement: The annual public reporting and recordkeeping burden for this collection of information is estimated to average 25 hours per response for an initial Part A Application and 13 hours per response for a revised Part A application. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for-profit, State, Local or Tribal Government.

Estimated Number of Respondents: 36

Frequency of Response: On occasion.

Estimated Total Annual Hour Burden: 576 hours.

Estimated Total Annualized Capital, Operating/ Maintenance Cost Burden: $1,000.

Send comments on the Agency's need for this information, the accuracy of the provided burden estimates, and any suggested methods for minimizing respondent burden, including through the use of automated collection techniques to the following addresses. Please refer to EPA ICR No. 0262.10 and OMB Control No. 2050-0034 in any correspondence.

Dated: September 16, 2002.
Oscar Morales,
Director, Collection Strategies Division.

[FR Doc. 02-24770 Filed 9-27-02; 8:45 am]

BILLING CODE 6560-50-U